DEPARTMENT OF THE INTERIOR

National Park Service

[NPS-PWR-PWRO-18359;PX.P0206452B.00.1]

Record of Decision for Wilderness Stewardship Plan, Sequoia and Kings Canyon National Parks, Fresno and Tulare Counties, California

AGENCY: National Park Service, Interior.

ACTION: Notice of Availability.

SUMMARY: The National Park Service (NPS) has prepared and approved a Record of Decision for the Final Environmental Impact Statement (EIS) and Wilderness Stewardship Plan (WSP) for Sequoia and Kings Canyon National Parks. Approval of the WSP culminates an extensive public engagement and environmental impact analysis effort that began in 2009. The legally required thirty-day no-action “wait period” was initiated on April 3, 2015, with the Environmental Protection Agency's Federal Register publication of the filing of the Final EIS.

ADDRESSES: Those wishing to review the Record of Decision may obtain a copy by submitting their request to the Superintendent, Sequoia and Kings Canyon National Parks, 47050 Generals Highway, Three Rivers, CA 93271.

FOR FURTHER INFORMATION CONTACT: Woody Smeck, Superintendent, (559) 565-3100.

SUPPLEMENTARY INFORMATION: On April 26, 2011, a Notice of Intent to prepare an EIS for the WSP was published in the Federal Register. The NPS developed the WSP/EIS with substantial input and participation from the public. The park hosted 16 public meetings and presentations (including one webinar) and received over 1,300 written public comments throughout the public scoping period and public review of the Draft WSP/EIS (released for sixty-day review period on July 1, 2014). The NPS consulted with park partners; traditionally associated American Indian tribes and groups; the State Historic Preservation Officer; and other federal and state agencies. The U.S. Forest Service was a cooperating agency in the planning process.

The Final WSP/EIS (released on April 3, 2015) evaluated the environmental consequences of four action alternatives and a no-action alternative. These alternatives described five different ways to provide appropriate types and levels of access for visitors and authorized users, preserve wilderness character, protect cultural and natural resources, and adhere to legally required management and preservation objectives.

Alternative 2, the management-preferred alternative, has been selected for implementation. It provides a targeted approach to preserving wilderness character by focusing on those areas where conditions warrant management actions. Alternative 2 allows for current types and levels of use, and builds on existing management practices to protect wilderness character and the natural and cultural resources in the parks. The goal of Alternative 2 is to encourage wilderness use and minimize restrictions while preserving wilderness character. Alternative 2 recommends a 691-mile designated trail system (mirrors current conditions), of which 650 miles (95 percent) are open to stock. Approximately 41 miles of trails are closed to stock for visitor safety and protection of natural and cultural resources. Meadows in areas open to stock are available for grazing under a meadow management program with limited exceptions. Seven meadows are closed to grazing along the Pacific Crest Trail and High Sierra Trail to protect scenery for public enjoyment.

Dated: September 1, 2015.
Martha J. Lee,
Acting Regional Director, Pacific West Region.

[FR Doc. 2015-23170 Filed 9-14-15; 8:45 am]

BILLING CODE 4312-FF-P